DEPARTMENT OF TRANSPORTATION

Surface Transportation Board

[STB Finance Docket No. 34177 (Sub-No. 1)]

Iowa, Chicago & Eastern Railroad Corporation—Trackage Rights Exemption—Commuter Rail Division of Regional Transportation Authority of Northeast Illinois and Soo Line Railroad Company

Soo Line Railroad Company, d/b/a Canadian Pacific Railway (CPR), will agree to grant overhead trackage rights ¹ to Iowa, Chicago & Eastern Railroad Corporation (IC&E) ² over: (1) A line of railroad owned by Metra, between milepost 40.3, near Pingree Grove, IL, and the connection with Belt Railway Company of Chicago (BRC) at milepost 6.6, at Cragin Junction, Chicago, IL, a distance of approximately 33.7 miles;³ and (2) certain CPR-owned connecting track at Tower B-12 in Franklin Park, IL, as necessary to connect and interchange with the Indiana Harbor Belt Railroad Company at that location.

¹ On March 25, 2003, IC&E concurrently filed a motion for a protective order pursuant to 49 CFR 1104.14(b) for a draft Trackage Rights Agreement between IC&E and CPR. The draft Trackage Rights Agreement was submitted under seal, as Exhibit 2 to the notice of exemption. By decision served on April 4, 2003, the Board granted IC&E's motion for a protective order.

In its motion, IC&E explains that, pursuant to a separate contract between CPR and the Commuter Rail Division of the Regional Transportation Authority of Northeast Illinois, d/b/a Metra (Metra), CPR has certain rights to admit a third party to use of the subject line owned by Metra. IC&E states that CPR is admitting it to the Metra line as such a third-party user, and that the trackage rights agreement is solely between CPR and IC&E. IC&E advises that CPR's admittance of IC&E to the Metra line is with the consent of Metra.

² IC&E is a Class II rail carrier operating approximately 1400 miles of trackage in the states of Iowa, Illinois, Kansas, Missouri, Minnesota, and Wisconsin. IC&E began rail operations on July 30, 2002, after acquiring the rail lines of I&M Rail Link, LLC. See Iowa, Chicago & Eastern Railroad Corporation—Acquisition and Operation Exemption—Lines of I&M Rail Link, LLC, STB Finance Docket No. 34177 (STB served June 12, 2002, July 22, 2002, and Jan. 21, 2003).

³ The proposed Metra trackage rights permit IC&E to connect and interchange with BRC at Cragin Junction (including the use of CPR's Galewood Yard at Cragin Junction in connection with movements to and from BRC), CPR at Bensenville Yard in Bensenville, IL, and Elgin, Joliet & Eastern Railway Company at Spaulding, IL.

The transaction was scheduled to be consummated on April 1, 2003, the effective date of the exemption.

The purpose of the trackage rights is to allow IC&E to effectively and efficiently interchange traffic in the Chicago terminal on a permanent basis.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34177 (Sub-No. 1), must be filed with the Surface Transportation Board, 1925 K Street, NW., Washington, DC 20423-0001. In addition, a copy of each pleading must be served on Thomas J. Litwiler, Fletcher & Sippel LLC, Two Prudential Plaza, Suite 3125, 180 North Stetson Avenue, Chicago, IL 60601-6721.

Board decisions and notices are available on our website at http://www.stb.dot.gov.

Decided: April 4, 2003.
By the Board, David M. Konschnik, Director, Office of Proceedings.
Vernon A. Williams,
Secretary.

[FR Doc. 03-8843 Filed 4-10-03; 8:45 am]

BILLING CODE 4915-00-P